DEPARTMENT OF HOUSING AND URBAN DEVELOPMENT

[FR-5727-N-01]

Rebuild by Design—Competition and Registration

AGENCY: Office of the Secretary, HUD.

ACTION: Notice.

SUMMARY: Under the authority of the America COMPETES Reauthorization Act of 2011, HUD and the Hurricane Sandy Rebuilding Task Force (Task Force) announce REBUILD BY DESIGN, a multi-stage regional design competition to promote resilience for the Hurricane Sandy-affected region. The goal of the competition is two-fold: to promote innovation by developing regionally-scalable but locally-contextual solutions that increase resilience in the region, and to implement selected proposals with both public and private funding dedicated to this effort.

DATES: Application Due Date: Applicants were required to submit a proposal in response to the Request for Qualifications in Phase One to rebuildbydesign@hud.gov, no later than 5:00 p.m. EDT on Friday, July 19, 2013.

FOR FURTHER INFORMATION CONTACT: Kevin Bush, rebuildbydesign@hud.gov

SUPPLEMENTARY INFORMATION:

I. Introduction

In an effort to promote resilience for the Hurricane Sandy-affected region, HUD and the Task Force are holding a multi-stage design competition entitled REBUILD BY DESIGN. The goal of the competition is to attract world-class talent, promote innovation, and develop projects that will actually be built. Once the best ideas are identified, HUD will make funds available through its Community Development Block Grant Disaster Recovery (CDBG-DR) program for project implementation along with other public and private funds. Examples of design solutions are expected to range in scope and scale—from large-scale green infrastructure to small-scale residential resiliency retrofits. Additional information is available at http://portal.hud.gov/hudportal/HUD?src=/sandyrebuilding/rebuildbydesign

II. Objectives

The competition seeks to bring local, regional, and international knowledge to bear in order to:

(1) Contribute to a better understanding of the region's vulnerabilities, strengths, and interdependencies;

(2) Generate design proposals that focus on regionally applicable solutions, increase resilience, develop and promote innovation, and integrate local efforts in the region;

(3) Build capacity of local communities and federal agencies while promoting an integrated regional approach;

(4) Connect to local efforts and strengthen the collaboration within governments and between government, business, academic, non-profit, and other organizations;

(5) Ignite innovation, outside-the-box perspectives, and address new trends; and

(6) Execute world-class projects with regional impact (either large scale or replicable across the region).

III. Design Categories

While REBUILD BY DESIGN may result in design solutions that are applicable across the United States, design teams are asked to focus on the most-affected and most-vulnerable areas of the Sandy-affected region within Connecticut, Maryland, New Jersey, New York, and Rhode Island. This is a complex region, with differing governance structures, culture, etc. To help navigate this complexity, the competition is organized around four focus areas: coastal communities, high-density urban environments, ecological and water body networks, and a catch-all category of unidentified or unexpected focus. Design teams will be expected to select one of the four focus areas, outlined below:

(1) Coastal communities: This category focuses on small- to mid-sized coastal communities. These communities are characterized by limited capacity and high coastal vulnerability. Here, there is often a tension between environmental and economic systems (i.e. the tourism industry is dependent on the environment and also vulnerable to it).

(2) High-density urban environments: These economically-significant areas have impacts on both the region and the nation as a whole. These communities have highly complex built and human systems and significant economic value for the entire region. When storms like Sandy hit these communities they cause major disruptions to both the local and regional economy.

(3) Ecological and water body networks: These networks are regional by nature; watersheds and ecosystems disregard administrative boundaries and must be considered from the regional scale. This category focuses on the interdependencies between the built and natural environments.

(4) The unidentified and unexpected: This category allows for selected teams to pursue unexpected questions and innovative proposals outside of the framework provided above. This is an open category to encourage outside-the-box approaches and proposals.

IV. Competition Stages

The competition consists of four stages, each with its own process, timeline and deliverable:

Stage One: Request for qualifications and selection of 5 to 10 Design Teams (July 2013)

—Request for qualifications and concepts issued.

—Selection of teams to participate.

During Stage One, applicants were required to submit a short proposal, detailed in the REBUILD BY DESIGN Request for Qualifications (see Rebuild by Design Web site: http://portal.hud.gov/hudportal/HUD?src=/sandyrebuilding/rebuildbydesign), which summarizes their interdisciplinary expertise and presents an initial approach related to one of the four focus areas. Applicants were required to submit both an idea on how they want to work on this (process) and what their initial thinking is on the issues at stake and the possible concepts that might emerge. Applicants were asked to illustrate these concepts in regard to what vulnerabilities their team would focus on. These concepts will serve as illustrations of the applicant's approach and innovative thinking; however, it is expected that selected Design Teams may need to adjust their approach based on the analysis process in Stage Two.

Applicants were required to include professional expertise in at least three of the following fields: infrastructure engineering, landscape design, urban design, architecture, land-use planning, industrial design, community engagement, and communications design. Applicants with additional expertise in the following fields are preferred: community building, social science, economics, ecology, hydrology, water safety, transportation, resilience, sustainability, project management, finance, arts, graphic design, and others. Applicants must have demonstrable experience in interdisciplinary research, analysis, and design—especially related to the spatial impacts of ecological, economic, and social development on the regional scale.

While by no means exhaustive, a Starter Kit of helpful information about the region was compiled and was also available on the Rebuild by Design Web site (http://portal.hud.gov/hudportal/HUD?src=/sandyrebuilding/rebuildbydesign). It contains a preliminary list of relevant datasets, general analyses, and existing plans.

At the end of Stage One, the Task Force, serving as the Selection Committee, will identify five to ten applicants to proceed to Stages Two and Three as Design Teams.

Stage One Timeline:

June 19, 2013 Request for Qualifications and Approach is Released

July 19, 2013 Deadline to Submit Response

July 25, 2013 Review/Selection of 5-10 Design Teams

Early August, 2013 Public Announcement of selected Design Teams

Deliverables: PDF proposal outlining applicant's qualifications and conceptual approach.

Stage Two: Analysis of the region through collaborative process (August—October 2013)

—Research and collaborative analysis of the region with a wide-variety of stakeholders.

—Identification of key design opportunities.

The selected Design Teams will participate in an intense participatory process that will involve HUD and its partners in the region. This process will include engagement with a wide-range of stakeholders (including state and local government) and experts to develop a comprehensive understanding of the region, its interdependencies, key vulnerabilities, and areas that warrant integrated design thinking and solutions. Teams that are selected to participate in Stage Two will receive $100,000 each to conduct their work.

Teams will be expected to participate in the following over the three-month analysis stage:

—Ongoing seminars around relevant themes and knowledge;

—A series of team symposia (one every three weeks) to discuss common needs for information/resources;

—Several regional site visits to interact with local stakeholders, engage the public, and witness affected spaces and structures; and

—An opening and closing conference for the analysis stage.

Content from this facilitated analysis process, being collaborative in nature and involving a wide-range of stakeholders, will be public, meaning that it can be used by all teams and will be collected throughout the process and presented through a variety of mediums. This iterative research process will underpin the analysis conducted by each of the Design Teams in their chosen focus area, and inform each Design Team's production of a research report and public presentation.

As part of the research and analysis stage, Design Teams must also identify at least three to five design opportunities resulting from their research. Design opportunities are defined as key opportunities or key projects that have the potential for maximum impact on the region's strengths and vulnerabilities. These opportunities can be both site-specific and/or representative of a typology that is regionally replicable.

Through a collaborative process with the Design Teams, Competition Jury (see below), and other stakeholders, each Design Team will end up with one design opportunity for development and refinement in Stage Three in collaboration with state and local communities. By defining the design questions through the competition process, this competition will incorporate the regional scale and perspective and will reflect the insight and interests of state and local stakeholders. Design Teams will then select one design opportunity to focus on in Stage 3.

Stage Two Timeline:

Mid—August, 2013 Opening Conference

August—October Ongoing Seminars and Team Symposia

August—October Six Regional Site Visits (exact sites TBD)

Late October, 2013 Closing Conference

Deliverables: Each Design Team will be expected to submit a highly-accessible digital research report that includes visual and non-visual analysis, and identification of at least three to five design opportunities within their focus area. Design Teams will publicly present their research at a conference in October 2013. These analyses will be compiled into a public catalog of submissions and synthesis document that could be used by a wide variety of stakeholders. The details and format for each of the Stage Two deliverables will be the subject of discussions and agreement with selected Design Teams.

Stage Three: Development of design solutions and community/partner engagement (November 2013-February 2014)

☐ Development of site-specific schematic design solutions

☐ Community engagement and intense collaboration with state/local government partners

During this stage, Design Teams will receive an additional $100,000 to design site-specific proposals for locally-implementable and/or regionally-scalable projects. In addition to design drawings, Design Teams will be expected to propose a strategy for implementation that identifies partners, funding, and timing. The design development phase will involve a facilitated, iterative community engagement process with all levels of government. Design Teams will engage with local political leadership in order to identify specific sites and individual projects relevant to the design opportunity identified in Stage Two, and to partner with a local or state government entity.

The Competition Jury will evaluate the final design proposals (based on criteria that will be provided) and identify winning projects that may be implemented by local or state governments with federal disaster recover resources. Winning projects will be presented publicly at a regional planning and design conference in the Sandy-affected region, as well as at TBD international venues.

Stage Three partners will include the Municipal Art Society of New York, the Regional Plan Association, and the Van Alen Institute. These partners will develop an iterative design process, rooted in the research from Stage Two, to help connect Design Teams with key partners and develop place-based design solutions.

Stage Three Timeline: TBD

Deliverables: Design and refinement of place-based design solutions implementable with CDBG-DR and other funding.

Stage Four: Implementation of winning designs by state and/or local governments with federal disaster recovery funds (March 2014—TBD)

☐ Design development of winning design solutions

☐ Implementation of winning design solutions with federal disaster recovery funds A winning Design Team or Design Teams will proceed from Stage Three to Stage Four and work closely with state and/or local government entities to implement their winning designs and key projects. Following the announcement of the competition winners, HUD may make an allocation of CDBG-DR funds for Sandy impacts and identify how these funds may be used to implement the winning projects/proposals.

Stage Four Timeline: Spring 2014

Deliverables: State or local governments receiving a final round CDBG-DR allocation will submit an action plan or action plan amendment to HUD identifying how it intends to use the funds consistent with guidelines and requirements published by Notice in the Federal Register.

V. Managing Partners and Jury

Managing Partners

While the Task Force is launching the competition, lead responsibility will transfer to HUD as the Task Force winds down in late summer/early fall 2013. The National Endowment for the Arts is lending their expertise to advise the Task Force and HUD in management and design of the overall process. In addition, many other federal departments and agencies are involved in the process both through the Task Force and in subsequent stages.

The Task Force is working with the Rockefeller Foundation and New York University's Institute of Public Knowledge, in collaboration with regional and other non-profit partners, to design and run the analysis process in Stages Two and Three.

Jury

The REBUILD BY DESIGN Jury functions as an expert panel throughout the competition, providing critical input during the analysis and design stages. The Jury will also help evaluate submissions at the end of Stage Two and ultimately judge the final designs at the end of Stage Three.

Subject to the requirements of 15 U.S.C. 3719(k), the Secretary of HUD will appoint one or more qualified individuals to act as jury members for this contest and may appoint himself as a jury member as well. Jury members may include individuals from outside HUD, including from the private sector. Jury members will operate in a transparent manner.

A jury member may not have a personal or financial interest in, or be an employee, officer, director, or agent of any entity that is a registered entrant in this contest, and may not have a familial or financial relationship with an individual who is a registered entrant.

Specific tasks related to the judging process may be delegated to HUD employees or employees of a collaborating Federal agency. Third parties may perform judging tasks subject to supervision by HUD or by a collaborating Federal agency.

Jury members shall have the authority to obtain from any entrant additional information, clarification of information, or assistance in resolving any technical issues relating to the installation, use, testing or evaluation of any entry, so long as doing so causes no substantial benefit or detriment to any entrant.

VI. Eligibility Rules for Participating in the Competition

Teams are required to demonstrate professional expertise in at least three of the following fields: infrastructure engineering, landscape design, urban design, architecture, land use planning, community development, communications design, public finance, or real estate. Teams with additional expertise in the following fields are encouraged: social-science, economic development, ecology, hydrology, water safety, transportation, resilience, sustainability, project management, finance, arts, graphic design, industrial design, or other disciplines as appropriate. Teams must have demonstrable experience in interdisciplinary research, analysis, and design—especially related to the spatial impacts of ecological, economic, and social development on the regional scale. All levels of experience were encouraged to apply in order to attract innovative thinking and new approaches, however, at least one team member must have experience working with publically funded projects.

In accordance with section 24(g) of the America COMPETES Reauthorization Act of 2010, any private entity participating in the competition must be incorporated in and maintain a primary place of business in the United States, and in the case of an individual, whether participating singly or in a group, must be a citizen or permanent resident of the United States. An individual or entity shall not be deemed ineligible because the individual or entity used Federal facilities or consulted with Federal employees during a competition if the facilities and employees are made available to all individuals and entities participating in the competition on an equitable basis.

VII. Registration Process for Participants

Applicants must submit a proposal in response to the Request for Qualifications in Phase One to rebuildbydesign@hud.gov no later than 5:00 p.m. EDT on Friday, July 19, 2013.

All proposals were required to be submitted in PDF format; hardcopy proposals were not accepted. Proposals were limited to 12 one-sided pages (format US Letter), including text, images, and/or drawings. Font size could not exceed 11 points; file size cannot exceed 20MB. Applicants were required to address the following in their proposals:

—List of team members (1 page): Include each team member's name, affiliation, contact information, and Web site. Clearly identify a single lead contact for follow up.

—Focus area: Clearly identify your team's selected focus area (i.e. coastal communities, high-density urban environments, ecological and water body networks, or other). See Page 1 of the Competition Brief for detailed information.

—Summary of team's strengths and relevant experience (2-3 pages): Provide a narrative summary of the team's collective strengths and experience relevant to the goals of the competition and to the team's selected focus area. Clearly articulate each team member's specific contribution to this effort and the interdisciplinary strength that distinct the team. Discuss past collaborative efforts among team members, if applicable.

—Selected relevant projects and expertise (3-6 pages): Submit highlights of previous work relevant to the goals of the competition and to the team's research focus and design approach. Include both visual and non-visual examples. Do not include links to external documents.

—Conceptual approach (2-4 pages): Include a narrative description of the team's proposed research and design approach and initial ideas within one of the four focus areas. Submit your ideas on how the team wants to work (process) and what your initial thinking is on the issues at stake and the possible concepts that might emerge. Illustrate these concepts in regard to what vulnerabilities your team would focus on. Elaborate on your strategy for connecting research and analysis activities to the development of implementable, place-based design solutions. Note that these ideas are illustrations for the team's approach and innovative thinking. Selected Design Teams will finalize their focus based off of their research during Stage Two.

For more information, please consult Appendix A of the competition Design Brief at: http://portal.hud.gov/hudportal/HUD?src=/sandyrebuilding/rebuildbydesign

VIII. Selection Process

Designees from the Hurricane Sandy Rebuilding Task Force will serve as the Stage One Selection Committee and will select 5-10 design teams based on the criteria listed below. The Task Force is chaired by HUD Secretary Shaun Donovan and is made up of executive-level representation from over 20 federal departments and agencies including White House offices. Applicants that are chosen by the Selection Committee will be invited to participate in Stages Two and Three, at which point they will be expected to enter into an agreement and provided a Scope of Work. Selected Design Teams will be provided $100,000 to participate in Stage Two. Teams proceeding to Stage Three will be provided with another $100,000 to advance their design proposals. All winning design teams selected to advance from Stage One are expected to continue to participate through Stage Three, although HUD reserves the right to remove participants that fail to comply with the Scope of Work agreement entered into at the beginning of Stage Two. The Jury will select the finalists that advance to Stage Four.

IX. Evaluation Criteria

The Stage One Selection Committee will identify Design Teams based on the following criteria:

1. Team composition

a. Depth of interdisciplinary experience.

b. Capacity to work collaboratively on interdisciplinary teams.

2. Quality of past work

a. Demonstrated excellence in each of the team member's respective disciplines.

b. Commitment to participatory design and public engagement—especially to underserved populations.

c. Relevance of the team's experience to the proposed research focus and design approach.

d. Track record of publically-funded, built projects. NOTE: This criterion is not required for all design team members; however, someone on the team must have experience successfully working through a public process.

3. Clarity, style, and thoroughness of proposal

Rules and Regulations

1. All proposals must have been sent in English.

2. Proposals must not have exceed 12 single-sided pages and be no larger than 20 megabytes.

3. Individual practitioners or offices may participate on multiple teams for the purpose of a submitting a response to the RFQ, however if selected they must select one team on which they will serve.

4. If your team is selected to proceed to Stages Two and Three then any changes to team members must approved by the Task Force/HUD.

Amount of the Prize

Applicants that are chosen by the Selection Committee will have the opportunity to participate in a facilitated analysis and design process, over the course of six months, gain access to a wide-variety of stakeholders, and be designated as a REBUILD BY DESIGN team. These Design Teams will be provided $100,000 to participate in Stage Two and $100,000 to participate in Stage Three. At the end of Stage Three, the competition Jury will evaluate Design Teams' final design solutions/projects and winning proposals to be implemented.

Prizes awarded under this competition in Stage Two and Stage Three as described above will be paid by electronic funds transfer and may be subject to Federal income taxes. HUD will comply with the Internal Revenue Service withholding and reporting requirements, where applicable.

Additional Information—Intellectual Property (IP)

a. Neither HUD nor the Task Force is responsible for a registered contestant's or entrant's lack of compliance with copyright, trademark, patent or other Federal law. Contestants and entrants will hold harmless, defend, and indemnify the Federal Government and any agency or component thereof from and against any suit, claim, demand, liability, damages, costs and expenses (including attorneys' fees and costs of defense), of whatever nature, whether groundless, false or fraudulent, arising out of any use, licensing or relicensing of any IP that is incorporated in the entrant's entry.

b. Contestants and entrants are responsible for obtaining all third-party licenses required to allow HUD, the Task Force and its contractors to receive any and all IP installed on any virtual machine, to run any and all testing software or scripts, and to demonstrate an entrant's product.

c. HUD may in its sole and absolute discretion choose to negotiate with any entrant to acquire, license, use or convey any other intellectual property developed in connection with this contest.

Public Comment

With this notice, HUD invites the public to comment on the information collection request described above. HUD will address all comments in a follow up notice to this publication.

For more information, visit the Rebuild By Design Web site at http://portal.hud.gov/hudportal/HUD?src=/sandyrebuilding/rebuildbydesign.

Dated: July 23, 2013.
Laurel Blatchford,
Executive Director, Hurricane Sandy Rebuilding Task Force.

[FR Doc. 2013-18163 Filed 7-26-13; 8:45 am]

BILLING CODE 4210-67-P